DEPARTMENT OF TRANSPORTATION

Surface Transportation Board

[STB Ex Parte No. 646 (Sub-No. 2)]

Simplified Standards for Rail Rate Cases—Taxes in Revenue Shortfall Allocation Method

AGENCY: Surface Transportation Board.

ACTION: Notice.

SUMMARY: By a decision served on May 11, 2009, the Board adopted the evidence filed by the Association of American Railroads (AAR) calculating railroad-specific average state tax rates to be included in the Revenue Shortfall Allocation Method (RSAM) benchmarks for 2002 through 2007

FOR FURTHER INFORMATION CONTACT: Timothy J. Strafford, (202) 245-0356. [Assistance for the hearing impaired is available through the Federal Information Relay Service (FIRS) at 1-800-877-8339.]

SUPPLEMENTARY INFORMATION: The decision served on May 11, 2009, adopted the evidence filed by the AAR calculating railroad-specific average state tax rates to be included in the RSAM benchmarks for 2002 through 2007. The railroad-specific average state tax rates are set forth in the table below.

Average State Tax Rates
[In percent]
Railroad | 2002 | 2003 | 2004 | 2005 | 2006 | 2007
BNSF | 5.487 | 5.471 | 5.238 | 5.196 | 5.183 | 5.650
CNGT | 6.512 | 6.582 | 6.738 | 6.703 | 6.701 | 6.684
CSXT | 5.960 | 6.362 | 6.312 | 6.101 | 5.941 | 5.702
KCS | 5.791 | 5.805 | 5.839 | 4.728 | 5.992 | 6.494
NS | 6.213 | 6.583 | 6.589 | 6.376 | 6.194 | 5.986
SOO | 7.890 | 8.346 | 7.828 | 7.635 | 7.591 | 7.501
UP | 5.443 | 5.405 | 5.406 | 5.393 | 6.275 | 6.163

Additional information is contained in the Board's decision. A copy of the Board's decision is available for inspection or copying at the Board's Public Docket Room, Room 131, 395 E Street, SW., Washington, DC 20423-0001, and is posted on the Board's Web site, http://www.stb.dot.gov.

This action will not significantly affect either the quality of the human environment or the conservation of energy resources.

Decided: May 8, 2009.
By the Board, Acting Chairman Mulvey, and Vice Chairman Nottingham.
Kulunie L. Cannon,
Clearance Clerk.

[FR Doc. E9-11254 Filed 5-13-09; 8:45 am]

BILLING CODE 4915-01-P